DEPARTMENT OF TRANSPORTATION

Federal Aviation Administration

Notice of Opportunity for Public Comment on AIP Acquired Land for Change of Use From Aeronautical to Non-Aeronautical Use and Lease at Bainbridge-Decatur County Industrial Airport, Bainbridge, Georgia

AGENCY: Federal Aviation Administration (FAA), DOT.

ACTION: Notice.

SUMMARY: Under the provisions of Title 49, notice is being given that the FAA is considering a request from the Bainbridge-Decatur County Administrator to change approximately 7.62 acres of AIP acquired airport property located on the northeastern portion of Bainbridge-Decatur County Industrial Airport from aeronautical use to non-aeronautical use. The proposed land use is for non-aeronautical lease and use for the installation of a solar panel farm and access road. The land is owned and operated by the airport, but not currently in use or planned for aeronautical use.

DATES: Comments must be received on or before March 4, 2019.

ADDRESSES: Comments on this notice may be mailed or delivered in triplicate to the FAA at the following address: Atlanta Airports District Office, Attn: Aimee McCormick, Planning Team Lead, 1701 Columbia Ave., Suite 220, Atlanta, GA 30337-2747.

In addition, one copy of any comments submitted to the FAA must be mailed or delivered to Alan Thomas, County Administrator, Decatur County at the following address: P.O. Box 726, Bainbridge, GA 39818.

FOR FURTHER INFORMATION CONTACT: Aimee McCormick, Planning Team Lead, Atlanta Airports District Office, 1701 Columbia Ave., Suite 220, Atlanta, GA 30337-2747, (404) 305-6799. The application may be reviewed in person at this same location.

SUPPLEMENTARY INFORMATION: The FAA is reviewing a request by the Decatur County Administrator to release approximately 7.62 acres of AIP acquired property at the Bainbridge-Decatur County Industrial Airport. The property will be leased with intent to install a solar panel farm. The location of the land relative to existing or anticipated aircraft noise contours greater than 65 ldn are not considered to be an issue. The proceeds from the lease of this property will be used for airport purposes. The proposed use of this property is considered a “limited and unusual circumstance” and therefore compatible with airport operations.

Any person may inspect the request in person at the FAA office listed above under FOR FURTHER INFORMATION CONTACT.

In addition, any person may, upon request, inspect the request, notice and other documents germane to the request in person at the Bainbridge-Decatur County Industrial Airport.

Issued in Atlanta, Georgia, on December 27, 2018.
Rusty Nealis,
Acting Manager, Atlanta Airports District Office, Southern Region.

[FR Doc. 2019-00567 Filed 1-30-19; 8:45 am]

BILLING CODE 4910-13-P